DEPARTMENT OF COMMERCE

International Trade Administration

A-570-881

Malleable Iron Pipe Fittings From the People's Republic of China: Amended Final Results of Antidumping Duty Administrative Review

AGENCY: Import Administration, International Trade Administration, Department of Commerce.

SUMMARY: On June 29, 2006, the Department of Commerce (“Department”) published Malleable Iron Pipe Fittings From the People's Republic of China: Final Results of Antidumping Duty Administrative Review, 71 FR 37051 (June 29, 2006) (“Final Results”), covering the period of review (“POR”) December 2, 2003, through November 30, 2004. We are amending the Final Results to correct two ministerial errors made in the calculation of the dumping margin for LDR Industries Inc. and Beijing Sai Lin Ke Hardware Co., Ltd. (collectively “SLK”), pursuant to section 751(h) of the Tariff Act of 1930, as amended (“the Act”).

EFFECTIVE DATE: August 8, 2006.

FOR FURTHER INFORMATION CONTACT: Jennifer Moats or Juanita H. Chen, AD/CVD Operations, Office 8, Import Administration, International Trade Administration, U.S. Department of Commerce, 1401 Constitution Avenue, NW., Washington, DC 20230; telephone: 202-482-5047 or 202-482-1904, respectively.

SUPPLEMENTARY INFORMATION:

Period of Review

The POR is December 2, 2003, through November 30, 2004.

Scope of the Order

For purposes of this order, the products covered are certain malleable iron pipe fittings, cast, other than grooved fittings, from the People's Republic of China (“PRC”). The merchandise is currently classifiable under item numbers 7307.19.90.30, 7307.19.90.60 and 7307.19.90.80 of the Harmonized Tariff Schedule of the United States (“HTSUS”). Excluded from the scope of this order are metal compression couplings, which are imported under HTSUS number 7307.19.90.80. A metal compression coupling consists of a coupling body, two gaskets, and two compression nuts. These products range in diameter from ½ inch to 2 inches and are carried only in galvanized finish. Although HTSUS subheadings are provided for convenience and customs purposes, the Department's written description of the scope of this proceeding is dispositive.

Background

On June 29, 2006, the Department published the Final Results in the Federal Register. On June 28, 2006, and July 3, 2006, we received ministerial error allegations from SLK and Chengde Malleable Iron General Factory (“Chengde”). On July 24, 2006, the Department rejected a second submission filed by Chengde as untimely. A ministerial error is defined in section 751(h) of the Act and further clarified in 19 CFR 351.224(f) as “an error in addition, subtraction, or other arithmetic function, clerical error resulting from inaccurate copying, duplication, or the like, and any other similar type of unintentional error which the Secretary considers ministerial.” After analyzing SLK's comments, we agree that the Department made two ministerial errors in SLK's margin calculation program for the Final Results. After analyzing Chengde's comments, we disagree with its allegations that the Department made ministerial errors in Chengde's margin calculation program for the Final Results. See the July 31, 2006, Memorandum from Juanita H. Chen to Wendy J. Frankel regarding the 2003-2004 Malleable Cast Iron Pipe Fittings from the People's Republic of China: Analysis of Ministerial Error Allegations. As a result, we are amending the Final Results only to revise the antidumping margin for SLK, in accordance with 19 CFR 351.224(e).

Analysis of Ministerial Error Allegations

SLK Allegation: Calculation Error for Weight Conversion

SLK argues that the Department erred when it converted SLK's U.S. expenses and packing factors from a per-piece basis to a per-kilogram basis by using an incorrectly calculated average weight of all the reported producer-specific weights (i.e., WEIGHT4 in the margin calculation program). Specifically, SLK argues that the error resulted from the use of the “ID” statement in the SAS calculation program when weight averaging all of the reported weights of each fitting, thereby resulting in the Department's unintentional selection of the highest reported producer-specific weight rather than the weighted-average weight. SLK claims that the Department then applied the highest per-unit weight as reported by SLK's suppliers in its factors of production (“FOP”) databases to convert the U.S. expenses and its packing expenses to a per-kilogram basis. SLK suggests that the Department correct this ministerial error by eliminating the “ID” statement and adding WEIGHT4 to the VAR statement, which calculates a weighted average of the reported producer-specific weights instead of the highest of the reported producer-specific weights.

Department's Position:

We agree with SLK that we inadvertently selected the highest reported weight by using the “ID” statement in the margin calculation. For these final results, we have eliminated the “ID” statement and added WEIGHT4 to the VAR statement. As a result, the revised margin calculation program applies the weighted-average of the reported producer-specific weights. Thus, we have revised SLK's margin accordingly.

SLK Allegation: Currency Conversion Error for Packing Expenses

SLK argues that the Department erroneously used Indian rupee-denominated freight values, instead of U.S. dollar-denominated freight values in calculating packing expenses. Specifically, SLK claims that the Department converted all the freight expenses related to SLK's packing FOPs from Indian rupees to U.S. dollars, but when calculating the total packing expenses, the Department added Indian rupee-denominated freight values to U.S. dollar-denominated surrogate values for the packing inputs. SLK suggests that the Department should correct this mistake by replacing the Indian rupee-denominated freight values with U.S. dollar-denominated freight values in the margin calculation for packing expenses.

Department's Position:

We agree with SLK that we erroneously used Indian rupee-denominated freight values instead of U.S. dollar-denominated freight values in its margin calculation for packing expenses. For these amended final results, we corrected this ministerial error and used freight values that were converted to U.S. dollars before adding these values to the U.S. dollar-denominated surrogate values for the packing inputs in SLK's margin calculation program.

Amended Final Results

As a result of the correction of ministerial errors and amended margin calculation, the following weighted-average margin exists for SLK, for the period of December 2, 2003, through November 30, 2004.

Producer/Exporter | Original Weighted-average percentage margin | Amended Weighted-average percentage margin
LDR Industries Inc. and Beijing Sai Lin Ke Hardware Co., Ltd. | 14.69 | 9.24

The Department will disclose calculations performed for the amended final results to the parties within five days of the date of publication of this notice in accordance with 19 CFR 351.224(b).

Assessment Rates

The Department will determine, and U.S. Customs and Border Protection (“CBP”) shall assess, antidumping duties on all appropriate entries based on the amended final results. For details on the assessment of antidumping duties on all appropriate entries, see Final Results, 71 FR 37051, 37056.

These amended final results are published in accordance with sections 751(h) and 777(i)(1) of the Act.

Dated: July 31, 2006.
David M. Spooner,
Assistant Secretary for Import Administration.

[FR Doc. E6-12817 Filed 8-7-06; 8:45 am]

BILLING CODE 3510-DS-S